DEPARTMENT OF LABOR

Employment and Training Administration

[TA-W-61,945]

Delphi Corporation, Automotive Holding Group, Chassis Business Support Functions, Including On-Site Leased Workers From Kforce Staffing, Kettering, Ohio; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility to Apply for Worker Adjustment Assistance and Alternative Trade Adjustment Assistance on September 20, 2007, applicable to workers of Delphi Corporation, Automotive Holding Group, Chassis Business Support Functions, Kettering, Ohio. The notice was published in the Federal Register on October 3, 2007 (72 FR 56384).

At the request of the State agency, the Department reviewed the certification for workers of the subject firm. The workers provide a variety of business services for an automotive brake parts manufacturing facility.

New information shows that leased workers of Kforce Staffing were employed on-site at the Kettering, Ohio location of Delphi Corporation, Automotive Holding Group, Chassis Business Support Functions. The Department has determined that these workers were sufficiently under the control of the subject firm to be considered leased workers.

Based on these findings, the Department is amending this certification to include leased workers of Kforce Staffing working on-site at the Kettering, Ohio location of the subject firm.

The intent of the Department's certification is to include all workers employed at Delphi Corporation, Automotive Holding Group, Chassis Business Support Functions, Kettering, Ohio, who were adversely affected by increased imports.

The amended notice applicable to TA-W-61,945 is hereby issued as follows:

“All workers of Delphi Corporation, Automotive Holdings Group, Chassis Business Support Functions, including on-site leased workers from Kforce Staffing, Kettering, Ohio, (excluding workers of Delphi at other Kettering, Ohio Locations: Delphi Corporation, Automotive Holdings Group, Formerly Delphi Energy Chassis Systems Division, Kettering, Ohio (TA-W-57,754) and Delphi Corporation, Automotive Holdings Group, Chassis Division, Kettering, Ohio (TA-W-61,950)), who became totally or partially separated from employment on or after August 3, 2006, through September 20, 2009, are eligible to apply for adjustment assistance under Section 223 of the Trade Act of 1974, and are also eligible to apply for alternative trade adjustment assistance under Section 246 of the Trade Act of 1974.”

Signed at Washington, DC this 30th day of April 2008.
Linda G. Poole,
Certifying Officer, Division of Trade Adjustment Assistance.

[FR Doc. E8-10586 Filed 5-12-08; 8:45 am]

BILLING CODE 4510-FN-P